DEPARTMENT OF THE TREASURY

United States Mint

Pricing for the 2024 Harriet Tubman and Greatest Generation Commemorative Coin Programs

AGENCY: United States Mint, Department of the Treasury.

ACTION: Notice.

SUMMARY: The United States Mint is announcing pricing for the 2024 Harriet Tubman and Greatest Generation Commemorative Coin Programs.

FOR FURTHER INFORMATION CONTACT: Ann Bailey, Sr. Program Manager for Sales and Marketing; United States Mint; 801 9th Street NW, Washington, DC 20220; or call 202-354-7500.

SUPPLEMENTARY INFORMATION: Pricing for the 2024 Harriet Tubman and Greatest Generation Commemorative Coin Programs is as follows:

Coin | Introductory price | Regular price
Silver Proof (both programs) | $82.00 | $87.00
Silver Uncirculated (both programs) | 77.00 | 82.00
Clad Proof (both programs) | 49.00 | 54.00
Clad Uncirculated (both programs) | 47.00 | 52.00

Products containing gold coins will be priced according to the Pricing of Numismatic and Commemorative Gold and Platinum Products Grid posted at www.usmint.gov.

(Authority: Public Laws 117-162, 117-163)

Eric Anderson,
Executive Secretary, United States Mint.

[FR Doc. 2023-28191 Filed 12-21-23; 8:45 am]

BILLING CODE 4810-37-P